DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 8 individuals and 5 entities whose property and interests in property have been blocked pursuant to the Foreign Narcotics Kingpin Designation Act (“Kingpin Act”) (21 U.S.C. 1901-1908, 8 U.S.C. 1182).

DATES: The designation by the Director of OFAC of the 8 individuals and 5 entities identified in this notice pursuant to section 805(b) of the Kingpin Act is effective on February 19, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at ­ http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 19, 2014, the Director of OFAC designated the following 8 individuals and 5 entities whose property and interests in property are blocked pursuant to section 805(b) of the Kingpin Act.

Individuals

1. RODRIGUEZ VASQUEZ, Fernain (a.k.a. CARRILLO, Abel); DOB 08 Jan 1972; POB Valparaiso, Caqueta, Colombia; Cedula No. 16191270 (Colombia) (individual) [SDNTK].

2. CASANOVA ORDONEZ, Hermes Alirio; DOB 02 Oct 1973; POB Policarpa, Narino, Colombia; Cedula No. 98390155 (Colombia) (individual) [SDNTK].

3. MONJE ALVARADO, Jonh Eduarth; DOB 09 May 1969; POB Caqueta, Florencia, Colombia; Cedula No. 1673727 (Colombia) (individual) [SDNTK] (Linked To: AGRO NEGOCIOS SAJE LTDA.).

4. SABAGH CAJELI, Romez Jose (a.k.a. SABAGH, Ramzi); DOB 04 Jun 1960; POB El Carmen de Bolivar, Bolivar, Colombia; Cedula No. 17848240 (Colombia) (individual) [SDNTK] (Linked To: ALMACEN SONIPAL).

5. QUINTERO CABALLERO, Luis Ramiro, Carrera 56 No. 81-98, Apt. 9B, Edificio Galery El Golf, Barranquilla, Colombia; Carrera 52B 100-240, Barranquilla, Colombia; DOB 23 Jan 1980; POB Santa Marta, Magdalena, Colombia; Cedula No. 7604133 (Colombia) (individual) [SDNTK] (Linked To: INTERNACIONAL MONEY SERVICIO LTDA.; Linked To: INVERSIONES Y REPRESENTACIONES EL CAIRO LTDA.; Linked To: EL KAIRO INTERNACIONAL SAS).

6. CUELLAR CASTRO, Luis Eduardo; DOB 18 Jun 1972; POB Valparaiso, Caqueta, Colombia; Cedula No. 12257081 (Colombia) (individual) [SDNTK].

7. VILLOTA SEGURA, Aldemar; DOB 03 Nov 1979; POB Policarpa, Narino, Colombia; Cedula No. 98367490 (Colombia) (individual) [SDNTK].

8. VILLOTA SEGURA, Segundo Alberto; DOB 22 Apr 1975; POB Policarpa, Narino, Colombia; Cedula No. 97445691 (Colombia) (individual) [SDNTK].

Entities

1. ALMACEN SONIPAL, Carrera 10 No. 12-20, Maicao, Guajira, Colombia; Matricula Mercantil No 0004638 (Colombia) [SDNTK].

2. INTERNACIONAL MONEY SERVICIO LTDA., Calle 76 No. 48-30, Barranquilla, Colombia; Carrera 15 No. 93-60 Local 1-21, Bogota, Colombia; Cra. 15 No. 119-59, Int. 308, Bogota, Colombia; NIT # 8301427473 (Colombia); alt. NIT # 9003766996 (Colombia) [SDNTK].

3. INVERSIONES Y REPRESENTACIONES EL CAIRO LTDA., Calle 76 No. 48-30, Barranquilla, Colombia; NIT # 802013384-9 (Colombia) [SDNTK].

4. AGRO NEGOCIOS SAJE LTDA., Carrera 15A No. 121-12, Ofc. 504, Bogota, Colombia; NIT # 9002933274 (Colombia); Matricula Mercantil No 1903808 (Colombia) [SDNTK].

5. EL KAIRO INTERNACIONAL SAS, Carrera 15 No. 93-60 Local 1-21, Bogota, Colombia; NIT # 900376699-6 (Colombia); Matricula Mercantil No 02018260 (Colombia) [SDNTK].

Dated: February 19, 2014.
Barbara C. Hammerle,
Acting Director, Office of Foreign Assets Control.

[FR Doc. 2014-04033 Filed 2-24-14; 8:45 am]

BILLING CODE 4810-AL-P